DEPARTMENT OF VETERANS AFFAIRS

Increase in Mileage Reimbursement Rate and Deductible Amounts in the Beneficiary Travel Program

AGENCY: Department of Veterans Affairs.

ACTION: Notice.

SUMMARY: This notice is to inform the public of the Secretary's decision to increase the Department of Veterans Affairs (VA) Beneficiary Travel program mileage reimbursement rate and deductible amounts under 38 U.S.C. 111 for travel of eligible beneficiaries in connection with VA health care and for other purposes. Effective February 1, 2008, the beneficiary travel mileage reimbursement rate is increased from 11 cents to 28.5 cents based upon mileage traveled to or from a Department facility or other place in connection with vocational rehabilitation, counseling required by the Secretary pursuant to 38 U.S.C. chapter 34, “Educational Assistance” or chapter 35, “Survivors' and Dependents' Educational Assistance” or for the purpose of examination, treatment or care.

FOR FURTHER INFORMATION CONTACT: Tony A. Guagliardo, Director, Business Policy, Chief Business Office (16), VA Central Office, 810 Vermont Avenue, NW., Washington, D.C. 20420, (202) 254-0406. (This is not a toll-free number)

SUPPLEMENTARY INFORMATION: In accordance with 38 U.S.C. 111, “Payments or allowances for beneficiary travel” the Secretary has authority to establish rates for payment of mileage reimbursement for certain eligible beneficiaries. Funding for beneficiary travel mileage reimbursement comes directly from the annual health care appropriation and General Operating Expenses covers the chapter 34 and chapter 35 reimbursement. Funds expended for beneficiary travel decrease those available for direct medical care. Accordingly, due to the steady rise in patient workload and the associated increased demand for VA medical care resources, the beneficiary travel mileage reimbursement rate has not been changed since 1978. The 2008 Appropriations Act provided funding in VA's health care appropriation to increase the beneficiary travel mileage reimbursement rate to 28.5 cents per mile, which is the current reimbursement rate for Federal employees if a Government-owned vehicle is available. The Secretary has thus made the decision to increase VA's beneficiary travel mileage reimbursement rate to 28.5 cents per mile. In making this decision, the Secretary also reviewed and analyzed other factors including the increase in the cost of depreciation of vehicles, gasoline and oil, maintenance, accessories, parts, and tires, insurances and taxes; the availability of and time required for public transportation; and the other mileage allowances authorized for Federal employees.

Title 38 U.S.C. 111(c)(5) requires VA to adjust proportionately the beneficiary travel mileage reimbursement rate deductibles for travel in relation to examination, treatment or care (currently $3 one way; $6 round trip, with a maximum of $18 per calendar month) effective on the date of a beneficiary travel mileage reimbursement rate change. Therefore, based on the increase of the beneficiary travel mileage reimbursement rate the deductible is adjusted proportionately to $7.77 per one way trip; $15.54 for a round trip; with a maximum deductible of $46.62 per calendar month. These deductibles may be waived in accordance with 38 CFR 17.144(b) when their imposition would cause severe financial hardship.

Approved: January 24, 2008
James B. Peake,
Secretary of Veterans Affairs.

[FR Doc. E8-1641 Filed 1-31-08; 8:45 am]

BILLING CODE 8320-01-P